DEPARTMENT OF HOMELAND SECURITY

Transportation Security Administration

[Docket No. TSA-2006-24191]

Intent To Request Revision From OMB of One Current Public Collection of Information: Transportation Worker Identification Credential (TWIC®) Program

AGENCY: Transportation Security Administration, DHS.

ACTION: 60-day notice.

SUMMARY: The Transportation Security Administration (TSA) invites public comment on one currently approved Information Collection Request (ICR), Office of Management and Budget (OMB) control number 1652-0047, abstracted below that we will submit to OMB for revision in compliance with the Paperwork Reduction Act (PRA). The ICR describes the nature of the information collection and its expected burden. The collection involves the submission of identifying and other information by individuals applying for a TWIC® and a customer satisfaction survey.

DATES: Send your comments by December 23, 2016.

ADDRESSES: Comments may be emailed to TSAPRA@tsa.dhs.gov or delivered to the TSA PRA Officer, Office of Information Technology (OIT), TSA-11, Transportation Security Administration, 601 South 12th Street, Arlington, VA 20598-6011.

FOR FURTHER INFORMATION CONTACT: Christina A. Walsh at the above address, or by telephone (571) 227-2062.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

OMB Control Number 1652-0047; Transportation Worker Identification Credential (TWIC®) Program. TSA developed the Transportation Worker Identification Credential (TWIC®) program to mitigate threats and vulnerabilities in the national transportation system. TWIC® is a common credential for all personnel requiring unescorted access to secure areas of facilities and vessels regulated under the Maritime Transportation Security Act (MTSA) and all mariners holding U.S. Coast Guard (Coast Guard) credentials. Before issuing an individual a TWIC®, TSA performs a security threat assessment, which requires TSA to collect certain personal information such as name, address, date of birth and other information. Applicants are also required to provide fingerprints, photograph, and undergo checks for ties to terrorism, applicable immigration status and a criminal history records check. Also, individuals in the field of transportation who are required to undergo a security threat assessment in certain other programs, such as the Chemical Facility Anti-Terrorism (CFATS) program, may apply for a TWIC® and the associated security threat assessment to satisfy CFATS requirements.

The program implements authorities set forth in the Aviation and Transportation Security Act (ATSA) (Pub. L. 107-71; Nov. 19, 2002; sec. 106), the Maritime Transportation Security Act of 2002 (MTSA) (Pub. L. 107-295; Nov. 25, 2002; sec. 102), and the Safe, Accountable, Flexible, Efficient Transportation Equity Act—A Legacy for Users (SAFETEA-LU) (Pub. L. 109-59; Aug. 10, 2005; sec. 7105), codified at 49 U.S.C. 5103a(g). TSA and the U.S. Coast Guard issued a joint notice of proposed rulemaking (NPRM) on May 22, 2006, 71 FR 29396. After consideration of public comments on the NPRM, TSA issued a joint final rule with the Coast Guard on January 25, 2007 (72 FR 3492), applicable to the maritime transportation sector that would require this information collection.

TSA collects data from applicants during an optional pre-enrollment step or during the enrollment session at an enrollment center. TSA will use the information collected to conduct a security threat assessment, which includes: (1) A criminal history records check; (2) a check of intelligence databases; and (3) an immigration status check. TSA may also use the information to determine a TWIC holder's eligibility to participate in TSA's expedited screening program for air travel, TSA Pre✓®. TSA invites all TWIC® applicants to complete an optional survey to gather information on the applicants' overall customer satisfaction with the enrollment process. This optional survey is administered by a Trusted Agent (a representative of the TWIC® enrollment service provider, who performs enrollment functions) during the process to activate the TWIC®. These surveys are collected at each enrollment center and compiled to produce reports that are reviewed by the contractor and TSA.

The collection is being revised to allow TSA to use the information to expand enrollment options and the potential use of biographic and biometric (e.g., fingerprints, iris scans, and/or photo) information. This will allow future use of the information collected for additional comparability or eligibility determinations for other programs or security requirements, such as allowing the TWIC® applicant to participate not only in a program such as the TSA Pre✓® Application Program, TSA's expedited screening program for air travelers, but also in the Hazardous Materials Endorsement (HME) Program without requiring an additional background check.

In addition, the collection is being revised to remove the requirement to collect information about the Extended Expiration Date (EED) TWIC®. In 2012, TSA issued an exemption option that permitted eligible TWIC® cardholders to obtain a replacement card that extended the expiration date of their security threat assessment and TWIC® card by three years on payment of a reduced renewal fee. The EED TWIC® was a one-time temporary option intended to provide convenience and cost-savings to applicants pending U.S. Coast Guard issuance of the Notice to Proposed Rulemaking for the TWIC® Reader Rule. The EED TWIC® renewal option is being discontinued, and applicants will be required to obtain a five-year TWIC® through the standard renewal process.

Also, TSA is re-evaluating its fee collection for the TWIC® Program in light of changes to the fee the FBI charges for fingerprint processing. Effective October 1, 2016, the FBI will reduce its fingerprint-based criminal history records check fee by $2.75 based on recommendations from a required user fee study (81 FR 45535). Section 1572.501(b)(3) of the TWIC® Final Rule (72 FR 3491) states that if the FBI amends its fee for criminal history records checks, TSA will collect the amended FBI fee. As a result of the FBI's fee change, the TWIC® standard enrollment fee ($128.00) will be reduced by $2.75. Effective October 1, 2016, TSA will collect a $125.25 fee for standard enrollments. The FBI fee is one segment of the TWIC® Program's overall fee. The TWIC® fee contains segments for enrollment, full/reduced card production/security threat assessment, and the FBI fee. Reduced rate and replacement TWIC® card enrollment fees will not change.

The current estimated annualized hour burden is 736,670 hours and the estimated annualized cost burden is $90,276,808.

Dated: October 18, 2016.
Joanna Johnson,
TSA Paperwork Reduction Act Officer, Office of Information Technology.

[FR Doc. 2016-25667 Filed 10-21-16; 8:45 am]

BILLING CODE 9110-05-P